DEPARTMENT OF COMMERCE

National Oceanic and Atmospheric Administration

[I.D. 101503B]

Proposed Information Collection; Comment Request; Shelf Rockfish Habitat in the Southern California Bight

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 19, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to John Harms, 2725 Montlake Blvd E, Seattle, WA 98112, (206) 860-3414, or john.harms@noaa.gov

SUPPLEMENTARY INFORMATION:

I. Abstract

The Northwest Fisheries Science Center (NWFSC) seeks to expand its information base for shelf rockfish within the Southern California Bight by developing a hook and line survey. In order to most efficiently sample the Bight, the NWFSC is interested in collaborating with local sport and commercial fishermen familiar with bocaccio and other shelf rockfish. Specifically, the NWFSC would like to solicit industry input on habitat and location information (such as, latitude and longitude for locations known to contain shelf rockfish; the predominant species of rockfish found at that location; general information on the name of the bank or reef at that location; and the depth of the water at that location) for shelf rockfish that will then be directly incorporated into the design and site selection for the resulting hook and line study. The information collected will be on a voluntary basis.

II. Method of Collection

The NWFSC will develop a questionnaire that can be distributed in both paper and electronic formats. that will Various means will be used to distribute the questionnaire including word of mouth, placing the questionnaire on the Internet, working through industry groups, personal contact, etc.

III. Data

OMB Number: None.

Form Number: None.

Type of Review: Regular submission.

Affected Public: Individuals or households, business or other for-profit organizations.

Estimated Number of Respondents: 50.

Estimated Time Per Response: 30 minutes.

Estimated Total Annual Burden Hours: 25.

Estimated Total Annual Cost to Public: $10. (Respondents who are not able to respond electronically or by fax would incur standard postage fees which are not expected to exceed the cost of a $.37 stamp.)

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 14, 2003.
Gwellnar Banks,
Management Analyst, Office of the Chief Information Officer.

[FR Doc. 03-26398 Filed 10-17-03; 8:45 am]

BILLING CODE 3510-22-S